DEPARTMENT OF ENERGY

Federal Energy Regulatory Commission

[Docket No. IS20-89-000]

ONEOK North System, L.L.C.; Notice of Tariff Filing

Take notice that on November 26, 2019, ONEOK North System, L.L.C. (ONEOK North System) filed multiple Tariffs ¹ to update its Allocation Policy. ONEOK North System states that the changes to ONEOK North System's Allocation Policy are at the request of Shippers as a result of the alternative dispute resolution process initiated by the Commission, in order to provide immediate applicability in support of emergency shipments of propane in response to concerns over demand for propane in the region served by the ONEOK North System. ONEOK North System proposes to make changes to its allocation procedure to allow Shippers to transfer allocated capacity to another Shipper during the time period December 1, 2019 through December 31, 2019, and to receive credit to their allocation history for barrels moved by the replacement Shipper. ONEOK North System seeks waiver pursuant to 18 CFR 341.14 of the notice requirements in section 6(3) of the Interstate Commerce Act to make the tariff effective November 26, 2019.

¹ ONEOK North System filed Tariffs 33.21.0, 34.18.0, 35.14.0, 37.15.0, 38.16.0, 39.20.0, 40.13.0, 42.31.0, 43.17.0, 44.15.0, 45.15.0, 47.8.0, and 48.1.0.

Notice is given that the deadline pursuant to 18 CFR 343.3 for filing protests to Enterprise TE filing is hereby shortened to and including December 4, 2019. The deadline for filing responses is shortened to and including December 6, 2019. Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Protest Date: 5:00 p.m. Eastern time on December 4, 2019.

Response Date: 5:00 p.m. Eastern time on December 6, 2019.

Dated: November 27, 2019.
Nathaniel J. Davis, Sr.,
Deputy Secretary.

[FR Doc. 2019-26203 Filed 12-3-19; 8:45 am]

BILLING CODE 6717-01-P